DEPARTMENT OF HOMELAND SECURITY

Federal Emergency Management Agency

44 CFR Part 64

[Docket ID FEMA-2010-0003; Internal Agency Docket No. FEMA-8135]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Massachusetts:
Aquinnah, Town of, Dukes County | 250070 | September 7, 1976, Emerg; October 15, 1985, Reg; July 6, 2010, Susp | July 6, 2010 | July 6, 2010.
Edgartown, Town of, Dukes County | 250069 | July 7, 1975, Emerg; July 2, 1980, Reg; July 6, 2010, Susp | ......do* | Do.
Gosnold, Town of, Dukes County | 250071 | September 29, 1977, Emerg; June 4, 1980, Reg; July 6, 2010, Susp | ......do | Do.
Oak Bluffs, Town of, Dukes County | 250072 | February 6, 1974, Emerg; July 2, 1980, Reg; July 6, 2010, Susp | ......do | Do.
Tisbury, Town of, Dukes County | 250073 | June 20, 1975, Emerg; June 15, 1984, Reg; July 6, 2010, Susp | ......do | Do.
West Tisbury, Town of, Dukes County | 250074 | March 29, 1978, Emerg; October 15, 1985, Reg; July 6, 2010, Susp | ......do | Do.
Region II
New Jersey:
Carteret, Borough of, Middlesex County | 340257 | April 4, 1973, Emerg; November 15, 1978, Reg; July 6, 2010, Susp | ......do | Do.
Cranbury, Township of, Middlesex County | 340258 | June 12, 1975, Emerg; May 17, 1982, Reg; July 6, 2010, Susp | ......do | Do.
Dunellen, Borough of, Middlesex County | 340259 | December 22, 1972, Emerg; April 1, 1977, Reg; July 6, 2010, Susp | ......do | Do.
East Brunswick, Township of, Middlesex County | 340260 | September 15, 1972, Emerg; January 6, 1982, Reg; July 6, 2010, Susp | ......do | Do.
Edison, Township of, Middlesex County | 340261 | October 6, 1972, Emerg; August 16, 1982, Reg; July 6, 2010, Susp | ......do | Do.
Helmetta, Borough of, Middlesex County | 340262 | February 18, 1975, Emerg; October 16, 1984, Reg; July 6, 2010, Susp | ......do | Do.
Highland Park, Borough of, Middlesex County | 340263 | April 7, 1972, Emerg; June 1, 1977, Reg; July 6, 2010, Susp | ......do | Do.
Jamesburg, Borough of, Middlesex County | 340264 | October 28, 1975, Emerg; May 15, 1984, Reg; July 6, 2010, Susp | ......do | Do.
Metuchen, Borough of, Middlesex County | 340266 | January 14, 1972, Emerg; December 4, 1979, Reg; July 6, 2010, Susp | ......do | Do.
Middlesex, Borough of, Middlesex County | 345305 | September 25, 1970, Emerg; July 9, 1971, Reg; July 6, 2010, Susp | ......do | Do.
Milltown, Borough of, Middlesex County | 340268 | February 1, 1974, Emerg; February 4, 1981, Reg; July 6, 2010, Susp | ......do | Do.
Monroe, Township of, Middlesex County | 340269 | February 25, 1973, Emerg; April 17, 1985, Reg; July 6, 2010, Susp | ......do | Do.
New Brunswick, City of, Middlesex County | 340270 | September 15, 1972, Emerg; December 4, 1979, Reg; July 6, 2010, Susp | ......do | Do.
North Brunswick, Township of, Middlesex County | 340271 | May 13, 1974, Emerg; May 1, 1980, Reg; July 6, 2010, Susp | ......do | Do.
Old Bridge, Township of, Middlesex County | 340265 | August 13, 1971, Emerg; November 15, 1985, Reg; July 6, 2010, Susp | ......do | Do.
Perth Amboy, City of, Middlesex County | 340272 | June 25, 1975, Emerg; December 18, 1979, Reg; July 6, 2010, Susp | ......do | Do.
Piscataway, Township of, Middlesex County | 340274 | December 27, 1974, Emerg; January 18, 1984, Reg; July 6, 2010, Susp | ......do | Do.
Plainsboro, Township of, Middlesex County | 340275 | April 14, 1975, Emerg; June 19, 1985, Reg; July 6, 2010, Susp | ......do | Do.
Sayreville, Borough of, Middlesex County | 340276 | January 21, 1974, Emerg; March 16, 1981, Reg; July 6, 2010, Susp | ......do | Do.
South Amboy, City of, Middlesex County | 340277 | September 27, 1974, Emerg; December 4, 1979, Reg; July 6, 2010, Susp | ......do | Do.
South Brunswick, Township of, Middlesex County | 340278 | June 19, 1974, Emerg; December 18, 1985, Reg; July 6, 2010, Susp | ......do | Do.
South Plainfield, Borough of, Middlesex County | 340279 | September 4, 1973, Emerg; August 1, 1980, Reg; July 6, 2010, Susp | ......do | Do.
South River, Borough of, Middlesex County | 340280 | June 18, 1974, Emerg; June 4, 1980, Reg; July 6, 2010, Susp | ......do | Do.
Spotswood, Borough of, Middlesex County | 340282 | October 31, 1973, Emerg; December 18, 1979, Reg; July 6, 2010, Susp | ......do | Do.
Woodbridge, Township of, Middlesex County | 345331 | September 25, 1970, Emerg; June 2, 1972, Reg; July 6, 2010, Susp | ......do | Do.
Region III
West Virginia:
Davis, Town of, Tucker County | 540260 | April 18, 1975, Emerg; July 20, 1984, Reg; July 6, 2010, Susp | ......do | Do.
Hambleton, Town of, Tucker County | 540192 | July 2, 1975, Emerg; July 20, 1984, Reg; July 6, 2010, Susp | ......do | Do.
Hendricks, Town of, Tucker County | 540193 | August 7, 1975, Emerg; August 1, 1987, Reg; July 6, 2010, Susp | ......do | Do.
Parsons, City of, Tucker County | 540194 | April 17, 1975, Emerg; August 15, 1979, Reg; July 6, 2010, Susp | ......do | Do.
Thomas, City of, Tucker County | 540261 | October 16, 1975, Emerg; September 10, 1984, Reg; July 6, 2010, Susp | ......do | Do.
Tucker County, Unincorporated Areas | 540191 | December 23, 1975, Emerg; July 1, 1987, Reg; July 6, 2010, Susp | ......do | Do.
Region IV
Georgia:
Elberton, City of, Elbert County | 130077 | April 22, 1975, Emerg; April 15, 1986, Reg; July 6, 2010, Susp | ......do | Do.
Lincoln County, Unincorporated Areas | 130665 | July 15, 2008, Emerg; July 6, 2010, Reg; July 6, 2010, Susp | ......do | Do.
Mississippi:
Tylertown, Town of, Walthall County | 280175 | February 27, 1975, Emerg; September 30, 1988, Reg; July 6, 2010, Susp | ......do | Do.
Walthall County, Unincorporated Areas | 280307 | May 20, 1980, Emerg; August 1, 1986, Reg; July 6, 2010, Susp | ......do | Do.
Region V
Ohio:
Green Camp, Village of, Marion County | 390374 | August 1, 1975, Emerg; February 4, 1987, Reg; July 6, 2010, Susp | ......do | Do.
La Rue, Village of, Marion County | 390375 | March 21, 1975, Emerg; February 4, 1987, Reg; July 6, 2010, Susp | ......do | Do.
Marion County, Unincorporated Areas | 390774 | February 28, 1977, Emerg; February 4, 1987, Reg; July 6, 2010, Susp | ......do | Do.
Frazeysburg, Village of, Muskingum County | 390426 | N/A, Emerg; February 9, 2005, Reg; July 6, 2010, Susp | ......do | Do.
Muskingum County, Unincorporated Areas | 390425 | April 28, 1976, Emerg; June 3, 1988, Reg; July 6, 2010, Susp | ......do | Do.
Philo, Village of, Muskingum County | 390851 | N/A, Emerg; December 29, 2005, Reg; July 6, 2010, Susp | ......do | Do.
Wisconsin: Clark County, Unincorporated Areas | 550048 | June 25, 1974, Emerg; August 15, 1990, Reg; July 6, 2010, Susp | ......do | Do.
Colby, City of, Clark and Marathon Counties | 550049 | November 29, 1974, Emerg; September 18, 1985, Reg; July 6, 2010, Susp | ......do | Do.
Greenwood, City of, Clark County | 550051 | November 11, 1974, Emerg; September 4, 1985, Reg; July 6, 2010, Susp | ......do | Do.
Loyal, City of, Clark County | 550052 | August 22, 1974, Emerg; September 4, 1985, Reg; July 6, 2010, Susp | ......do | Do.
Neillsville, City of, Clark County | 550053 | January 30, 1974, Emerg; July 17, 1978, Reg; July 6, 2010, Susp | ......do | Do.
Owen, City of, Clark County | 550054 | November 20, 1974, Emerg; July 6, 2010, Reg; July 6, 2010, Susp | ......do | Do.
Thorp, City of, Clark County | 550055 | May 9, 1975, Emerg; August 15, 1984, Reg; July 6, 2010, Susp | ......do | Do.
Region VI
Arkansas:
Crittenden County, Unincorporated Areas | 050429 | May 18, 1983, Emerg; November 1, 1985, Reg; July 6, 2010, Susp | ......do | Do.
Earle, City of, Crittenden County | 050054 | June 20, 1974, Emerg; January 3, 1986, Reg; July 6, 2010, Susp | ......do | Do.
Edmondson, Town of, Crittenden County | 050409 | November 8, 1976, Emerg; March 18, 1986, Reg; July 6, 2010, Susp | ......do | Do.
Horseshoe Lake, Town of, Crittenden County | 055057 | N/A, Emerg; January 18, 2006, Reg; July 6, 2010, Susp | ......do | Do.
Marion, City of, Crittenden County | 050345 | July 9, 1975, Emerg; September 1, 1987, Reg; July 6, 2010, Susp | ......do | Do.
Turrell, City of, Crittenden County | 050370 | July 9, 1976, Emerg; February 1, 1988, Reg; July 6, 2010, Susp | ......do | Do.
West Memphis, City of, Crittenden County | 050055 | June 6, 1974, Emerg; July 16, 1980, Reg; July 6, 2010, Susp | ......do | Do.
Region VII
Kansas:
Manhattan, City of, Pottawatomie and Riley Counties | 200300 | January 30, 1974, Emerg; April 1, 1982, Reg; July 6, 2010, Susp | ......do | Do.
Riley County, Unincorporated Areas | 200298 | June 23, 1975, Emerg; April 1, 1982, Reg; July 6, 2010, Susp | ......do | Do.
Region VIII
Colorado:
Collbran, Town of, Mesa County | 080116 | August 12, 1975, Emerg; April 15, 1982, Reg; July 6, 2010, Susp | ......do | Do.
De Beque, Town of, Mesa County | 080307 | January 25, 1985, Emerg; April 17, 1989, Reg; July 6, 2010, Susp | ......do | Do.
Fruita, City of, Mesa County | 080194 | June 5, 1975, Emerg; December 1, 1981, Reg; July 6, 2010, Susp | ......do | Do.
Grand Junction, City of, Mesa County | 080117 | October 13, 1978, Emerg; January 6, 1983, Reg; July 6, 2010, Susp | ......do | Do.
Mesa County, Unincorporated Areas | 080115 | July 26, 1973, Emerg; July 3, 1978, Reg; July 6, 2010, Susp | ......do | Do.
Palisade, Town of, Mesa County | 080198 | September 27, 1982, Emerg; February 5, 1986, Reg; July 6, 2010, Susp | ......do | Do.
North Dakota:
Dunseith, City of, Rolette County | 380103 | June 2, 1975, Emerg; February 19, 1986, Reg; July 6, 2010, Susp | ......do | Do.
St. John, City of, Rolette County | 380106 | July 2, 1975, Emerg; October 1, 1986, Reg; July 6, 2010, Susp | ......do | Do.
Turtle Mountain Band of Chippewa Indian Reservation, Rolette County | 380714 | March 29, 1999, Emerg; July 6, 2010, Reg; July 6, 2010, Susp | ......do | Do.
South Dakota:
Mission Hill, Town of, Yankton County | 460091 | November 28, 1975, Emerg; June 18, 1980, Reg; July 6, 2010, Susp | ......do | Do.
Yankton, City of, Yankton County | 460093 | August 22, 1974, Emerg; August 15, 1980, Reg; July 6, 2010, Susp | ......do | Do.
Yankton County, Unincorporated Areas | 460088 | May 16, 1975, Emerg; October 1, 1986, Reg; July 6, 2010, Susp | ......do | Do.
Region X
Washington:
Cheney, City of, Spokane County | 530175 | May 1, 1975, Emerg; November 6, 1979, Reg; July 6, 2010, Susp | ......do | Do.
Deer Park, City of, Spokane County | 530176 | July 3, 1975, Emerg; December 26, 1979, Reg; July 6, 2010, Susp | ......do | Do.
Fairfield, Town of, Spokane County | 530177 | November 17, 1975, Emerg; October 16, 1979, Reg; July 6, 2010, Susp | ......do | Do.
Medical Lake, City of, Spokane County | 530179 | July 2, 1975, Emerg; November 8, 1984, Reg; July 6, 2010, Susp | ......do | Do.
Millwood, City of, Spokane County | 530180 | March 3, 1975, Emerg; June 15, 1979, Reg; July 6, 2010, Susp | ......do | Do.
Rockford, Town of, Spokane County | 530181 | March 15, 1976, Emerg; October 2, 1979, Reg; July 6, 2010, Susp | ......do | Do.
Spokane, City of, Spokane County | 530183 | October 25, 1973, Emerg; August 1, 1980, Reg; July 6, 2010, Susp | ......do | Do.
Spokane Valley, City of, Spokane County | 530342 | N/A, Emerg; April 1, 2004, Reg; July 6, 2010, Susp | ......do | Do.
Spokane County, Unincorporated Areas | 530174 | May 30, 1975, Emerg; May 17, 1988, Reg; July 6, 2010, Susp | ......do | Do.

*......do and Do. = Ditto.

Code for reading third column: Emerg.—Emergency; Reg.—Regular; Susp.—Suspension.

Dated: June 16, 2010.
Sandra K. Knight,
Deputy Federal Insurance and Mitigation Administrator, Mitigation.

[FR Doc. 2010-15228 Filed 6-22-10; 8:45 am]

BILLING CODE 9110-12-P